DEPARTMENT OF HOMELAND SECURITY

U.S. Customs and Border Protection

[Docket No. USCBP-2025-0977]

Commercial Customs Operations Advisory Committee

AGENCY: U.S. Customs and Border Protection, Department of Homeland Security.

ACTION: Notice of open Federal Advisory Committee meeting.

SUMMARY: The Commercial Customs Operations Advisory Committee (Committee) will hold its quarterly meeting on Wednesday, January 14, 2026, in Washington, DC. The meeting will be open to the public via webinar only.

DATES: The Committee will meet on Wednesday, January 14, 2026, from 1 p.m. to 5 p.m. Eastern Standard Time (EST). Please note the meeting may close early if the Committee has completed its business. Comments must be submitted in writing no later than 5 p.m. EST on January 9, 2026.

ADDRESSES: The meeting will be open to the public via webinar only. The webinar link will be posted by 5 p.m. EST on January 13, 2026, at https://www.cbp.gov/trade/stakeholder-engagement/coac/coac-public-meetings. For information or to request special assistance for the meeting, contact Mrs. Latoria Martin, Office of Trade Relations, U.S. Customs and Border Protection, at (202) 344-1440, as soon as possible.

Comments may be submitted by one of the following methods:

• Federal eRulemaking Portal: http://www.regulations.gov. Search for Docket Number USCBP-2025-00XX. To submit a comment, click the “Comment” button located on the top-left hand side of the docket page.

• Email: tradeevents@cbp.dhs.gov. Include Docket Number USCBP-2025-00XX in the subject line of the message.

Comments must be submitted in writing no later than 5 p.m. EST on January 9, 2026, and must be identified by Docket No. USCBP-2025-00XX. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Mrs. Latoria Martin, Office of Trade Relations, U.S. Customs and Border Protection, 1300 Pennsylvania Avenue NW, Room 3.5A, Washington, DC 20229, (202) 344-1440; or Mr. Christopher J. Siepmann, Designated Federal Officer, at (202) 344-1440 or tradeevents@cbp.dhs.gov.

SUPPLEMENTARY INFORMATION: Notice of this meeting is given under the authority of the Federal Advisory Committee Act, Title 5 U.S.C., ch. 10. The Commercial Customs Operations Advisory Committee (Committee) provides advice to the Secretary of the Department of Homeland Security, the Secretary of the Department of the Treasury, and the Commissioner of U.S. Customs and Border Protection on matters pertaining to the commercial operations of U.S. Customs and Border Protection and related functions within the Department of Homeland Security and the Department of the Treasury.

The Committee is committed to ensuring all participants have equal access regardless of disability status. If you require reasonable accommodation due to a disability to fully participate, please contact Mrs. Latoria Martin at (202) 344-1440 as soon as possible.

Please feel free to share this information with other interested members of your organization or association.

To facilitate public participation, we are inviting public comments on the issues the Committee will consider prior to the formulation of recommendations as listed in the Agenda section below.

There will be a public comment period after each subcommittee update during the meeting on January 14, 2026. During the meeting, comments may be submitted via the trade events mailbox at tradeevents@cbp.dhs.gov or through the Microsoft Teams chat feature. Please note the public comment period for speakers may end before the time indicated on the schedule that is posted on the U.S. Customs and Border Protection web page: http://www.cbp.gov/trade/stakeholder-engagement/coac.

Agenda

With the sunset of the traditional subcommittees and working groups after the September public meeting, a change in structure for the Committee was expected. However, close to the onset of the new fiscal year, the ability for the Committee to meet was affected by the lapse in funding of the Federal Government. While U.S. Customs and Border Protection was able to continue to work, the members of the Committee had no engagement with U.S. Customs and Border Protection during that time. Despite that, the Committee has been able to generate conversation for communications on new and existing Section 232 tariffs and the importance of the definitions for determining dates that affect all modes of transportation from import through to export. The Committee believes that recommendations could be possible for the January Committee meeting relating to Section 232 tariff implementation, but more conversation will be needed with U.S. Customs and Border Protection to articulate the focus for meetings beyond this quarter.

Meeting materials will be available on January 5, 2026, at: http://www.cbp.gov/trade/stakeholder-engagement/coac/coac-public-meetings.

Christopher J. Siepmann,
Executive Director, Office of Trade Relations.

[FR Doc. 2025-23990 Filed 12-29-25; 8:45 am]

BILLING CODE 9111-14-P